DEPARTMENT OF TRANSPORTATION

Surface Transportation Board

[STB Finance Docket No. 34165]

R.J. Corman Equipment Company, LLC—Acquisition Exemption—Line of CSX Transportation, Inc.

R.J. Corman Equipment Company, LLC (RJCE), a noncarrier, has filed a verified notice of exemption under 49 CFR 1150.31 to acquire approximately 36.08 miles of rail line known as the Dawkins Subdivision from CSX Transportation, Inc. (CSXT) located between approximately milepost 0.05 at or near Dawkins, KY, and approximately milepost 36.13 at or near Evanston, KY, in Johnson, Magoffing and Breathitt Counties, KY. RJCE certifies that its projected revenues as a result of this transaction will not result in the creation of a Class I or Class II rail carrier.

The transaction was scheduled to be consummated on or after January 24, 2002, the effective date of the exemption.

This transaction is related to two simultaneously filed notices of exemption: STB Finance Docket No. 34167, Richard J. Corman—Continuance in Control Exemption—R.J. Corman Equipment Company, LLC, wherein Richard J. Corman seeks to continue in control of RJCE, upon its becoming a Class III rail carrier; and STB Finance Docket No. 34166, R.J. Corman Railroad Company/Bardstown Line—Lease and Operation Exemption—Line of R.J. Corman Equipment Company, LLC, wherein R.J. Corman Railroad Company/Bardstown Line seeks to lease and operate the line being acquired by RJCE in STB Finance Docket No. 34165.

If this notice contains false or misleading information, the exemption is void ab initio. Petitions to revoke the exemption under 49 U.S.C. 10502(d) may be filed at any time. The filing of a petition to revoke will not automatically stay the transaction.

An original and 10 copies of all pleadings, referring to STB Finance Docket No. 34165, must be filed with the Surface Transportation Board, Office of the Secretary, Case Control Unit, 1925 K Street, NW, Washington, DC 20423-0001. In addition, a copy of each pleading must be served on Kevin M. Sheys, Kirkpatrick & Lockhart LLP, 1800 Massachusetts Avenue—2nd Floor, Washington, DC 20036.

Board decisions and notices are available on our website at “WWW.STB.DOT.GOV.”

Decided: February 8, 2002.
By the Board, David M. Konschnik, Director, Office of Proceedings.
Vernon A. Williams,
Secretary.

[FR Doc. 02-3670 Filed 2-14-02; 8:45 am]

BILLING CODE 4915-00-P